DEPARTMENT OF AGRICULTURE

Forest Service

Lincoln National Forest; New Mexico; South Sacramento Restoration Project

AGENCY: Forest Service, USDA.

ACTION: Notice of intent to prepare an environmental impact statement.

SUMMARY: The Lincoln National Forest will prepare an Environmental Impact Statement (EIS) to document and publicly disclose environmental effects of its management strategy for restoring forest health on approximately 140,000 acres in the southern Sacramento Mountains of New Mexico. The restoration strategy would include a variety of management tools including mechanical methods and prescribed fire to achieve forest health and fuel reduction goals. The project will include additional measures to improve wildlife habitat and watershed health. The project will include adaptive management options that will allow for treatment flexibility based on site-specific conditions, needs, and objectives.

DATES: Comments concerning the scope of the analysis must be received by May 8, 2017. The draft environmental impact statement is expected December 2017 and the final environmental impact statement is expected April 2018.

ADDRESSES: Send written comments to “SSRP Comments, c/o Peggy Luensmann, Lincoln National Forest, Supervisor's Office, 3463 Las Palomas, Alamogordo, NM 88310”. Comments may also be sent via email to comments-southwestern-lincoln@fs.fed.us, or via facsimile to 575-434-7218.

A public meeting will be held at the Lodge Resort Pavilion, 601 Corona Place, Cloudcroft, NM 88317 on Wednesday, April 26, 2017 from 6 p.m. to 9 p.m. Forest Service representatives will present an overview of the project proposal, answer questions, and discuss the analysis process. Please contact the Forest Service at 575-434-7200 at least one week in advance of the meeting if you need to request special accommodations (i.e., sign language interpretation, etc.).

FOR FURTHER INFORMATION CONTACT: The project Web site at https://www.fs.usda.gov/project/?project=51146 or contact Peggy Luensmann, 575-434-7200, psluensmann@fs.fed.us.

Individuals who use telecommunication devices for the deaf (TDD) may call the Federal Information Relay Service (FIRS) at 1-800-877-8339 between 8 a.m. and 8 p.m., Eastern Time, Monday through Friday.

SUPPLEMENTARY INFORMATION: The project is being developed under the Agriculture Act (Farm Bill) of 2014 authority as amended to the Healthy Forests Restoration Act of 2003, Section 602. The initial project proposal was designed in cooperation with the New Mexico Department of Game and Fish, the U.S. Fish and Wildlife Service, and with the participation of a local collaborative group representing the interests of local residents, environmental groups, other state and federal agencies, elected officials, and other stakeholders.

Purpose and Need for Action

The landscape within the South Sacramento Restoration Project planning area has been greatly altered from historic conditions. Overall forest health in the area has declined due to insects, disease, and other factors leading to high tree mortality and increased risk for high-severity wildland fire across the landscape. Wildlife habitat and watershed conditions have also declined as a result.

The purpose of the project is to restore overall forest health, watershed health, and wildlife habitat in the planning area. There is a need to increase forest resiliency to insects, disease, and stand-replacing fires by shifting forest structure, composition, and diversity toward the natural range of conditions that were historically typical for mixed-conifer, ponderosa pine, pinyon-juniper, and other habitat types within the Sacramento Mountains in southeast New Mexico.

Additionally, there is a need to reduce high-severity fire risks and post-fire flooding potential to protect life, property, and natural resources by reducing crown fire hazard potential. There are also needs to reduce the likelihood of human-caused ignitions and to increase the ability of fire suppression crews to manage future wildfires.

In Mexican spotted owl habitat, there is a need to protect existing and promote development of future habitat suitable for nesting, roosting, foraging, and dispersal to further recovery of the species. Additionally, there is a need to increase our understanding of the short- and long-term effects of land management on existing and future suitable habitat.

Where watershed function is impaired, there is a need to improve soil condition and productivity; hydrologic function of springs and seeps; and quality of perennial and intermittent waters and riparian areas.

Proposed Action

In response to the purpose and need, the Lincoln National Forest proposes to conduct forest restoration activities on up to 140,000 acres of National Forest System lands in the southern Sacramento Mountains (approximately 10 to 15 years to meet initial project objectives with additional maintenance treatments over the long term). Restoration activities would occur in all ecosystems in the area, including mixed-conifer, ponderosa pine, pinyon-juniper, riparian areas, meadows, and aspen habitat types. Restoration activities would focus on thinning and burning treatments to improve forest health and resiliency by reducing stand density, continuity, and homogeneity (sameness of forest structure and species composition), and increase heterogeneity (diverse forest structure and species composition) at a landscape scale, midscale and fine scale.

The South Sacramento Restoration Project includes areas of the Lincoln National Forest, Sacramento Ranger District that either have not been previously treated, or that were previously treated but require additional treatments to support forest restoration and other habitat management goals at all scales. To meet project needs, the Forest Service is proposing to conduct hand and mechanical thinning and prescribed fire treatments to achieve forest and wildlife habitat restoration objectives as described below. Treatments would be aligned with old growth development and large tree retention objectives, which are ecosystem components that are generally lacking in the planning area. The following types of treatment activities may be considered for this project:

Hand Treatments—Hand treatments refer to the use hand tools such as chainsaws, brush cutters, and other methods that do not require the use of heavy machinery, vehicles, or similar equipment. The use of manual methods can be extremely time consuming and would most likely be used on slopes that are inaccessible by heavy equipment; in areas adjacent to open roads; or in areas where use of mechanical methods would cause significant, unavoidable harm to resources.

Mechanical Treatments—Mechanical treatments refer to a variety of possible tools used to meet objectives. These include equipment and vehicles designed to cut trees and lop slash including on all terrain; yard material to landings; pile slash; chip or masticate wood; and transport material. Merchantable wood products would be removed from sites where feasible, based on road access, slope, terrain, and economic factors. Non-merchantable wood and thinning slash may be removed or treated on site depending on site-specific objectives.

Prescribed Fire—Broadcast and pile burning are types of prescribed fire that may be used in this project. In most cases, pile burning would occur following mechanical treatments to remove activity slash created during mechanical treatment activities. Bulldozers or similar heavy equipment are most commonly used to pile slash. Slash may be hand piled in areas with limited amounts of downed woody debris, where highly-erodible soils occur, or on steep slopes and other areas that are not accessible to heavy equipment.

Broadcast burning would be most often used after initial thinning and pile burning treatments on a regular maintenance schedule (typically every 2 to 15 years depending on the plant association). However, broadcast burning may also be used as an initial treatment where treatment objectives do not require mechanical thinning prior to burning (such as maintaining open meadows or in stands to stimulate understory growth) and where the use of broadcast burning would be expected to meet restoration objectives with minimal risk to property or resources of concern. Both manual and aerial ignition methods may be used. If prescribed burning is unable to occur due to environmental or personnel constraints, then additional hand or mechanical methods would occur to maintain restoration objectives.

Adaptive Management—The adaptive management strategy consists of three principle components: (1) The ability to select management tools or strategies best suited to site-specific and mid-scale management; (2) the ability to learn from treatment and resource monitoring so the most effective treatment methods are used to achieve management goals in new areas; and (3) the ability to incorporate new technologies or tools as they become available.

All proposed hand or mechanical thinning and prescribed fire treatments may be used indefinitely after the initial treatments to maintain or further reduce tree densities and fuel loads if site-specific objectives cannot be fully achieved by the initial treatment.

Additional treatments methods may be utilized to restore watershed health and improve wildlife habitat:

Some snags and downed woody debris would be retained as needed to improve soil condition and nutrient cycling and to meet wildlife habitat objectives outlined in the Lincoln National Forest Land and Resource Management Plan (Forest Plan). New snags may be created to improve wildlife habitat conditions and forest health in areas where existing snags are limited.

Watersheds—Improve water quality and watershed condition. Treatments may include but is not limited to installing structures to control erosion; reseeding or replanting native vegetation where natural regeneration is not sufficient to stabilize soils; and treating headcuts in arroyos.

Mexican Spotted Owl Habitat—Restoration activities, including hand or mechanical thinning and prescribed fire treatments are proposed in Mexican spotted owl protected activity centers and recovery habitats. The overall goal is to improve the quantity, quality, and distribution of owl habitat. Treatments would be designed in coordination with the U.S. Fish and Wildlife Service and align with the 2012 Mexican spotted owl recovery plan. These restoration activities are expected to improve habitat resiliency by reducing the risk of stand-replacing fires and reducing the occurrence and extent of insect and disease outbreaks within owl habitat. Treatments are also expected to promote the development of future habitat in forest stands that are not currently suitable for nesting and roosting or only provide marginal habitat. Pre- and post-treatment monitoring would occur so the impacts of treatments can be understood.

Infrastructure improvements may be necessary to complete proposed treatments:

Roads—Open system roads (maintenance level 2 through 5) would continue to be maintained as needed. Maintenance level 1 roads (closed roads) would be temporarily opened and maintained where needed for project access. Temporary roads and landings may be constructed where needed for these purposes. Road maintenance includes but is not limited to smoothing out road surfaces, improving drainage, and stabilizing stream crossings. Both maintenance level 1 and temporary roads would be closed after treatments are completed. Open system roads would remain open to public access after completion of the project. No new permanent roads would be constructed. Decisions about changing public access are not included in this project.

Forest Plan Amendment

To further meet project goals, the proposed action would include a project-specific amendment to the Forest Plan that would authorize the use of forest restoration strategies in places and under conditions that were not foreseen when the current Forest Plan standards and guidelines were established in 1986. The amendment is expected to include, but may not be limited to, the standard and guideline changes relating to:

• Using harvest strategies on steep slopes where such activities are not currently authorized;

• Using a broader range of treatment options within Mexican spotted owl habitat than is currently authorized; and

• Removing timing restrictions in some Mexican spotted owl protected activity centers so disturbance in occupied habitat can be limited to one year.

A project-specific plan amendment is a one-time variance in Forest Plan direction. Forest Plan standards and guidelines revert back to the original language for all other ongoing or future projects that may be authorized on the Lincoln National Forest unless additional amendments are made for those other projects. The amendment will be fully developed based on circumstances, issues, and concerns identified during the project scoping period. If adopted, this would be the eighteenth amendment to the Forest Plan since its inception in 1986.

The current Forest Plan is under revision and a final decision on the revised plan is not expected until 2019. The final South Sacramento Restoration Project analysis and decision is expected to be consistent with the revised Forest Plan.

Responsible Official

The Forest Supervisor of the Lincoln National Forest is the deciding officer for this project. The Forest Supervisor will issue a record of decision at the conclusion of the National Environmental Policy Act (NEPA) process, and after evaluating public comments received on the draft EIS.

Nature of Decision To Be Made

The Forest Service is the lead agency for the project. Based on the results of the NEPA analysis and consideration of public comments, the Forest Supervisor will authorize implementation of one of the following: (1) The no action alternative; or (2) the agency's proposed action, including the adaptive management strategy, Forest Plan amendment, and any protection measures or mitigations necessary to minimize or avoid adverse impacts.

The decision will be based on a consideration of the environmental effects of implementing the proposed action or other alternatives that may be developed to respond to significant issues. The Forest Supervisor may select the proposed action, a modified proposed action or alternative, another alternative analyzed in detail, or no action.

Scoping Process

This notice of intent initiates the scoping process, which guides the development of the environmental impact statement. The Forest Service will host a public scoping meeting. See the Addresses section for details on the location, date, and time of the meeting.

It is important that reviewers provide their comments at such times and in such manner that they are useful to the agency's preparation of the environmental impact statement. Therefore, comments should be provided prior to the close of the comment period and should clearly articulate the reviewer's concerns and contentions.

This proposed project is an activity implementing a land management plan and is subject to the objection process described in 36 CFR 218 Subparts A and C. As such, individuals and organizations wishing to be eligible to file a predecisional objection must meet the information requirements in 36 CFR 218.25(a)(3). Comments received in response to this solicitation, including names and addresses of those who comment, will become part of the public record for this project and may be released under the Freedom of Information Act. Comments submitted anonymously will be accepted and considered; however, anonymous commenters will have no standing to participate in subsequent administrative review or judicial review.

Dated: March 20, 2017.
Jeanne M. Higgins,
Associate Deputy Chief, National Forest System.

[FR Doc. 2017-06927 Filed 4-6-17; 8:45 am]

BILLING CODE 3411-15-P